FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed information collections. In accordance with the Paperwork Reduction Act of 1995 (44 U.S.C. 3506(c)(2)(A)), this notice seeks comments concerning information required by FEMA to revise National Flood Insurance Program Maps.

SUPPLEMENTARY INFORMATION: With the passage of the Flood Disaster Protection Act of 1973, an owner of a structure, with a federally backed mortgage, located in the 1-percent annual chance floodplain, was required to purchase federal flood insurance. This was in response to the escalating damage caused by flooding and the unavailability of flood insurance from commercial insurance companies. However, the 1-percent annual chance floodplain may change due to changes within the floodplain, or may be more accurately depicted through the use of more up-to-date methods and data. FEMA will issue a Letter of Map Revision to officially revise the 1-percent annual chance floodplain.

Collection of Information

Title. Revisions to National Flood Insurance Program Maps: Application Forms for Letters of Map Revision and Conditional Letters of Map Revision.

Type of Information Collection. Revision of a currently approved collection.

OMB Number: 3067-0148.

Form Numbers. FEMA forms 81-89, 81-89A, 81-89B, 81-89C, 81-89D, 81-89E.

Abstract. The certification forms (referred to as MT-2 series forms) are designed to assist requesters in gathering information that FEMA needs to revise a National Flood Insurance Program map.

FEMA Form 81-89, Overview and Concurrence Form, describes the location of the request, what is being requested, and what data are required to support the request. In addition, NFIP regulations 44 CFR 65.5(a)(4) require that a community official certify that the request complies with minimum floodplain management criteria specified in 44 CFR 60.3. This form ensures that this requirement is fulfilled prior to the submittal of the request to FEMA.

FEMA Form 81-89A, Riverine Hydrology and Hydraulics Form, allows FEMA to efficiently review assumptions made, parameters used, and the results of hydrologic and hydraulic analyses performed in support of a revision request. It also addresses more common regulatory issues.

FEMA Form 81-89B, Riverine Structures Form, allows FEMA to efficiently review assumptions made, parameters used, and the results of revision requests involving new or modified structures in riverine flood hazard areas; FEMA Form 81-89C, Coastal Analysis Form, allows FEMA to efficiently review assumptions made, parameters used, and the results of coastal analyses performed in support of a revision request. It also addresses more common regulatory issues.

FEMA Form 81-89D, Coastal Structures Form, allows FEMA to efficiently review assumptions made, parameters used, and the results of revision requests involving new or modified structures in coastal flood hazard areas.

FEMA Form 81-89E, Alluvial Fan Flooding Form, allows FEMA to efficiently review assumptions made, parameters used, and the results of alluvial fan flooding analyses performed in support of a revision request.

Estimated Total Annual Burden Hours.

FEMA Forms | No. of Respondents (A) | Frequency of Responses (B) | Hours Per Response (C) | Annual Burden Hours (A x B x C)
81-89 | 1,400 | Annual | 1.0 | 1,400
81-89A | 1,400 | Annual | 3.0 | 4,200
81-89B | 1,400 | Annual | 7.0 | 9,800
81-89C | 1,400 | Annual | 1.0 | 1,400
81-89D | 1,400 | Annual | 1.0 | 1,400
81-89E | 1,400 | Annual | 1.0 | 1,400
Total | 1,400 |  | 14.0 | 19,600

Estimated Cost. Cost to respondents is estimated to be $980,000 annually (19,600 annual burden hours x $50 per hour), while the cost to the Federal Government is estimated to be $2,500,000 annually.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities Management and Services Division, Administration and Resource Planning Directorate, Federal Emergency Management Agency, 500 C Street, SW, Room 316, Washington, DC 20472.

FOR FURTHER INFORMATION CONTACT: Contact Ms. Cecelia Lynch, FEMA Federal Insurance and Mitigation Administration at (202) 646-7045 for additional information. You may contact Ms. Anderson for copies of the proposed collection of information at telephone number (202) 646-2625 or facsimile number (202) 646-3347 or e-mail muriel.anderson@fema.gov.

Dated: March 22, 2002.
Reginald Trujillo,
Chief, Program Services and Systems Branch, Facilities Management and Services Division, Administration and Resource Planning Directorate.

[FR Doc. 02-7637 Filed 3-28-02; 8:45 am]

BILLING CODE 6718-01-P